DEPARTMENT OF ENERGY

Federal Energy Regulatory Commission

[Docket No. CP17-101-000]

Transcontinental Gas Pipe Line Company, LLC; Notice of Schedule for Environmental Review of the Northeast Supply Enhancement Project

On March 27, 2017, Transcontinental Gas Pipe Line Company, LLC (Transco) filed an application in Docket No. CP17-101-000 requesting a Certificate of Public Convenience and Necessity pursuant to Section 7(c) of the Natural Gas Act to construct, operate, and maintain certain natural gas pipeline facilities. The proposed project is known as the Northeast Supply Enhancement Project (NESE Project or Project) and would provide 400,000 dekatherms per day of firm transportation service to the New York City area.

On April 6, 2017, the Federal Energy Regulatory Commission (FERC or Commission) issued its Notice of Application for the Project. Among other things, that notice alerted other agencies issuing federal authorizations of the requirement to complete all necessary reviews and to reach a final decision on the request for a federal authorization within 90 days of the date of issuance of the Commission staff's final Environmental Impact Statement (EIS) for the NESE Project. This instant notice identifies the FERC staff's planned schedule for completion of the final EIS for the Project, which is based on an issuance of the draft EIS in March 2018.

Schedule for Environmental Review

Issuance of Notice of Availability of the final EIS—September 17, 2018

90-day Federal Authorization Decision Deadline—December 16, 2018

This schedule is predicated on Transco demonstrating a feasible and timely method for addressing general conformity, such that the final General Conformity Determination can be issued with the final EIS. If a schedule change becomes necessary for the final EIS, an additional notice will be provided so that the relevant agencies are kept informed of the Project's progress.

Project Description

The NESE Project consists of 10.2 miles of 42-inch-diameter pipeline loop ¹ in Lancaster County, Pennsylvania (the Quarryville Loop); 3.4 miles of 26-inch-diameter pipeline loop in Middlesex County, New Jersey (the Madison Loop); 23.5 miles of 26-inch-diameter pipeline loop in Middlesex and Monmouth Counties, New Jersey, and Queens and Richmond Counties, New York (the Raritan Bay Loop ²); modification of existing Compressor Station 200 in Chester County, Pennsylvania; construction of new Compressor Station 206 in Somerset County, New Jersey; and appurtenant facilities.

¹ A loop is a segment of pipe that is installed adjacent to an existing pipeline and connected to it at both ends. A loop generally allows more gas to move through the system.

² Except for 0.2 mile of pipe in onshore Middlesex County, New Jersey, the Raritan Bay Loop would occur in offshore New Jersey waters (6.0 miles) and offshore New York waters (17.3 miles).

Background

On August 24, 2016, the Commission issued a Notice of Intent to Prepare an Environmental Impact Statement for the Planned Northeast Supply Enhancement Project, Request for Comments on Environmental Issues, and Notice of Public Scoping Sessions (NOI). The NOI was issued during the pre-filing review of the Project in Docket No. PF16-5 and was sent to federal, state, and local government agencies; elected officials; affected landowners; environmental and public interest groups; Native American tribes and regional organizations; commentors and other interested parties; and local libraries and newspapers. The majority of environmental issues raised during scoping were related to proposed Compressor Station 206, including air quality and noise impacts; impacts on nearby residences, schools, and churches; socioeconomic impacts, including environmental justice; safety; and impacts related to activities at the nearby existing Trap Rock Quarry. Other major issues raised during scoping related to the Project include purpose and need; surface water and groundwater impacts; impacts on wildlife and aquatic resources; traffic; and alternatives.

The U.S. Environmental Protection Agency, the U.S. Army Corps of Engineers, and the City of New York are cooperating agencies in the preparation of the EIS.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP17-101), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: January 3, 2018.
Kimberly D. Bose,
Secretary.

[FR Doc. 2018-00271 Filed 1-9-18; 8:45 am]

BILLING CODE 6717-01-P